DEPARTMENT OF THE INTERIOR

Central Utah Project Completion Act

AGENCY: Office of the Assistant Secretary—Water and Science, Department of the Interior.

ACTION: Notice of Intent to Prepare an Environmental Assessment (EA) and Public Scoping Meeting on the Hobble Creek Habitat Restoration, Utah County, Utah, as part of the June Sucker Recovery Implementation Program.

SUMMARY: Pursuant to Section 102(2)(c) of the National Environmental Policy Act of 1969 (NEPA), as amended, the Council on Environmental Quality Regulations at 40 CFR 1501.7, and authorities under the Endangered Species Act (15 U.S.C. 1536, et seq.), the Department is initiating an environmental impact analysis, with public involvement, for the Hobble Creek Habitat Restoration Project. The plan would relocate a portion of Hobble Creek onto state-owned land, restore more natural stream sinuosity, and improve instream habitat conditions to benefit the June sucker (Chasmistes liorus), an endangered fish.

The June sucker exists naturally only in Utah Lake and spawns only in the Provo River, a Utah Lake tributary. Hobble Creek, also a tributary to Utah Lake, is believed to be an historic spawning stream for the June sucker that has been dredged, straightened and otherwise degraded in a manner that renders it no longer suitable for June sucker spawning. Restoration of at least one additional Utah Lake tributary as spawning habitat for the June sucker is a recovery action in the approved Recovery Plan for the species. The Department is acting as Lead Agency for NEPA compliance in its capacity as a participating partner in the June Sucker Recovery Implementation Program.

DATES: A public scoping meeting is scheduled in the local geographic area of the project to receive input from affected parties and the general public regarding anticipated environmental issues associated with the project. The scoping meeting will be held Wednesday, December 5, 2007, from 5 p.m. to 7 p.m. at: Springville Junior High School, School Cafeteria, 165 South 700 East, Springville, Utah 84663.

Public notice of this meeting will also be announced in local media. The details for submitting scoping comments will also be announced.

FOR FURTHER INFOMRATION: Additional information on matters related to this notice can be obtained by contacting Mr. Ralph G. Swanson, 302 East 1860 South Provo, Utah 84606-6154, telephone (801) 379-1254, or by e-mail at rswanson@uc.usbr.gov.

Dated: November 27, 2007.
Reed R. Murray,
Program Director, Central Utah Project Completion Act Office, Upper Colorado Region.

[FR Doc. E7-23398 Filed 11-30-07; 8:45 am]

BILLING CODE 4310-RK-P